DEPARTMENT OF THE TREASURY

Internal Revenue Service

Open Meeting of the Ad Hoc Committee of the Taxpayer Advocacy Panel

AGENCY: Internal Revenue Service (IRS) Treasury.

ACTION: Cancellation notice.

SUMMARY: The open meeting of the Ad Hoc Committee of the Taxpayer Advocacy Panel (via teleconference) originally published in the Federal Register on July 6, 2005, has been cancelled.

DATES: The meeting will be held Monday, August 8, 2005.

FOR FURTHER INFORMATION CONTACT: Mary O'Brien at 1-888-912-1227, or 206 220-6096.

SUPPLEMENTARY INFORMATION: Notice is hereby given pursuant to Section 10(a)(2) of the Federal Advisory Committee Act, 5 U.S.C. App. (1988) that an open meeting of the Ad Hoc Committee of the Taxpayer Advocacy Panel previously scheduled for Monday, August 1, 2005 from 4 p.m. eastern time to 5 p.m. eastern time via a telephone conference call is cancelled. If you have any question please contact Mary O'Brien, TAP Office, 915 2nd Avenue, MS W-406, Seattle, WA 98174 or you can contact us at http://www.improveirs.org. Ms O'Brien can be reached at 1-888-912-1227 or 206-220-6096.

The agenda will include the following: various IRS issues.

Dated: July 7, 2005.
Martha Curry,
Acting Director, Taxpayer Advocacy Panel.

[FR Doc. E5-3691 Filed 7-11-05; 8:45 am]

BILLING CODE 4830-01-P